DEPARTMENT OF TRANSPORTATION

Federal Aviation Administration

14 CFR Part 39

[Docket No. FAA-2026-0012; Project Identifier MCAI-2024-00483-R; Amendment 39-23238; AD 2026-02-02]

RIN 2120-AA64

Airworthiness Directives; PZL-Swidnik S.A. Helicopters

AGENCY: Federal Aviation Administration (FAA), DOT.

ACTION: Final rule; request for comments.

SUMMARY: The FAA is adopting a new airworthiness directive (AD) for certain PZL-Swidnik S.A. (Swidnik) Model PZL W-3A helicopters. This AD was prompted by the detection of corrosion on the main rotor blade (MRB) attachment bolts. This AD requires repetitively inspecting the MRB attachment bolts and, depending on the results of the inspection, repairing or replacing any affected bolts. This AD also requires reporting the inspection results and prohibits installing any MRB attachment bolt unless certain requirements are met. The FAA is issuing this AD to address the unsafe condition on these products.

DATES: This AD is effective February 6, 2026.

The Director of the Federal Register approved the incorporation by reference of a certain publication listed in this AD as of February 6, 2026.

The FAA must receive comments on this AD by March 9, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0012; or in person at Docket Operations between 9 a.m. and 5 p.m., Monday through Friday, except Federal holidays. The AD docket contains this final rule, the mandatory continuing airworthiness information (MCAI), any comments received, and other information. The street address for Docket Operations is listed above.

Material Incorporated by Reference:

• For PZL-Świdnik S.A material identified in this AD, contact Swidnik, Al. Lotników Polskich 1, 21-045 Świdnik, Poland; phone: (+48) 81722 5000; email: PL-CustomerSupport.AW@leonardocompany.com; or at https://www.pzlswidnik.pl/en/home.

• You may view this material at the FAA, Office of the Regional Counsel, Southwest Region, 10101 Hillwood Parkway, Room 6N-321, Fort Worth, TX 76177. For information on the availability of this material at the FAA, call (817) 222-5110. It is also available at regulations.gov under Docket No. FAA-2026-0012.

FOR FURTHER INFORMATION CONTACT: Adam Hein, Aviation Safety Engineer, FAA, 1600 Stewart Avenue, Suite 410, Westbury, NY 11590; phone: (316) 946-4116; email: adam.hein@faa.gov.

SUPPLEMENTARY INFORMATION:

Comments Invited

The FAA invites you to send any written data, views, or arguments about this final rule. Send your comments using a method listed under the ADDRESSES section. Include “Docket No. FAA-2026-0012; Project Identifier MCAI-2024-00483-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Adam Hein, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2024-0166, dated August 21, 2024 (EASA AD 2024-0166) (also referred to as the MCAI), to correct an unsafe condition on PZL Model PZL W-3A and PZL W-3AS helicopters. The MCAI states that during replacement of the MRBs on a PZL W-3A helicopter, corrosion of the MRB attachment bolts was found. The MCAI further states the affected MRB attachment bolts had been installed for 7 months and had accumulated 243 flight hours (FH), which is far below the defined service life limit of 2,700 FH for this critical part. The MCAI states this is an interim action and specifies that further action may follow.

The unsafe condition, if not detected and corrected, could lead to cracks and failure of one or more of the MRB attachment bolts and result in loss of an MRB and consequent loss of control of the helicopter.

You may examine the MCAI in the AD docket at regulations.gov under Docket No. FAA-2026-0012.

Material Incorporated by Reference Under 1 CFR Part 51

The FAA reviewed PZL-Świdnik Alert Service Bulletin No. ASB-37-24-347, dated July 11, 2024 (PZL ASB-37-24-347). This material specifies procedures for repetitively removing, cleaning, and inspecting part number (P/N) 37.21.000.50.00 MRB attachment bolts for surface or pitting corrosion, or mechanical damage and baked-on grease. If any of these conditions exist, PZL ASB-37-24-347 specifies either repairing the MRB attachment bolt if its condition is within acceptable/repairable criteria or replacing it if its condition exceeds acceptable/repairable criteria. PZL ASB-37-24-347 also specifies reporting all inspection results to Swidnik.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI and material referenced above. The FAA is issuing this AD after determining that the unsafe condition described previously is likely to exist or develop on other products of the same type design.

AD Requirements

This AD requires accomplishing the actions specified in the material already described. This includes removing and cleaning each MRB attachment bolt, and depending on the inspection results, repairing or removing any bolt that is outside the repairable limits. This AD also requires reporting inspection results to the manufacturer and prohibits installing a P/N 37.21.000.50.00 MRB attachment bolt on any helicopter unless it has been inspected in accordance with the AD requirements.

Differences Between This AD and the MCAI

The MCAI applies to Swidnik Model PZL W-3AS helicopters, whereas this AD does not because that model does not have an FAA type certificate.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no domestic operators of these products. Accordingly, notice and opportunity for prior public comment are unnecessary, pursuant to 5 U.S.C. 553(b). In addition, for the foregoing reason, the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Interim Action

The FAA considers that this AD is an interim action. If final action is later identified, the FAA may consider further rulemaking.

Costs of Compliance

There are no costs of compliance with this AD because there are no helicopters with this type certificate on the U.S. Registry.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-02-02 PZL-Swidnik S.A.: Amendment 39-23238; Docket No. FAA-2026-0012; Project Identifier MCAI-2024-00483-R.

(a) Effective Date

This airworthiness directive (AD) is effective February 6, 2026.

(b) Affected ADs

None.

(c) Applicability

This AD applies to PZL-Swidnik S.A. Model PZL W-3A helicopters, certificated in any category.

(d) Subject

Joint Aircraft System Component (JASC) Code 6200: Main Rotor System.

(e) Unsafe Condition

This AD was prompted by a report of corrosion on main rotor blade (MRB) attachment bolts. The FAA is issuing this AD to address corrosion on the MRB attachment bolts, which if not detected and corrected, could lead to cracks and failure of one or more of the attachment bolts, resulting in loss of an MRB and consequent loss of control of the helicopter.

(f) Compliance

Comply with this AD within the compliance times specified, unless already done.

(g) Required Actions

(1) Within 100 hours time-in-service (TIS) or 3 months, whichever occurs first after the effective date of this AD:

(i) Remove each MRB attachment bolt part number (P/N) 37.21.000.50.00 and clean it, in accordance with Chapter II Accomplishment Instructions, paragraph 2.2 of PZL-Świdnik Alert Service Bulletin No. ASB-37-24-347, dated July 11, 2024 (PZL ASB-37-24-347).

(ii) Inspect each cleaned MRB attachment bolt for surface corrosion, pitting corrosion, or mechanical damage (defects), and damaged or missing protective coating as specified in Attachment 1, Criteria for Assessing Bolt Serviceability, paragraphs 1. and 2., of PZL ASB-37-24-347.

(iii) If there is any defect (surface corrosion, pitting corrosion, or mechanical damage), polish the affected area with sandpaper and determine if the MRB attachment bolt is within repairable limits as specified in Attachment 2, Bolt Repair, of PZL ASB-37-24-347.

(A) If the MRB attachment bolt is within repairable limits, before further flight repair the bolt in accordance with Attachment 2 Bolt Repair, of PZL ASB-37-24-347.

(B) If the MRB attachment bolt is beyond repairable limits, before further flight, remove the MRB attachment bolt from service and replace it with a serviceable bolt.

(2) Thereafter, repeat the actions required by paragraphs (g)(1)(i) through (iii) in accordance with the inspection intervals in table 1 to paragraph (g)(2) of this AD.

Table 1 to Paragraph (g)(2)—Inspection Intervals
Inspection results and/or action(s) accomplished during the last inspections | Repetitive intervals (hours TIS or calendar time, whichever occurs first)
No defects of any bolt and no damaged or missing protective coating of any bolt were found or The damaged or missing protective coating of each discrepant and each repaired bolt has been renewed/applied or All the discrepant bolts or all the affected parts have been replaced with serviceable parts | Within 300 hours TIS or 12 months, whichever occurs first, since the last inspection.
No defects of any bolt were found and for which the protective coating was found damaged during the last inspection and the protective coating has not been renewed | Within 25 hours TIS or 6 months, whichever occurs first, since the last inspection.

(3) Within 30 days after each inspection required by this AD, report the inspection results to PZL-Swidnik S.A. The report must include the information specified in Chapter VI, paragraph 2.3 of PZL ASB-37-24-347.

(h) Parts Installation Limitation

As of the effective date of this AD, do not install an MRB attachment bolt P/N 37.21.000.50.00, on any helicopter unless it has been inspected in accordance with the requirements of this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov.

(2) Before using any approved AMOC, notify your appropriate principal inspector, or lacking a principal inspector, the manager of the local flight standards district office/certificate holding district office.

(j) Additional Information

For more information about this AD, contact Adam Hein, Aviation Safety Engineer, FAA, 1600 Stewart Avenue, Suite 410, Westbury, NY 11590; phone: (316) 946-4116; email: adam.hein@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) PZL-Świdnik Alert Service Bulletin No. ASB-37-24-347, dated July 11, 2024.

(ii) [Reserved]

(3) For PZL-Swidnik S.A. material identified in this AD, contact PZL-Swidnik S.A., 21-045, Swidnik, Poland; phone: +48 81 722 50 00; email: PL-CustomerSupport.AW@leonardo.com; website: https://extranet.pzl.swidnik.pl.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on January 12, 2026.
Steven W. Thompson,
Acting Deputy Director, Compliance & Airworthiness Division, Aircraft Certification Service.

[FR Doc. 2026-01182 Filed 1-21-26; 8:45 am]

BILLING CODE 4910-13-P